DEPARTMENT OF ENERGY

Federal Energy Regulatory Commission

[Docket No. EG00-230-000, et al.]

Electric Rate and Corporate Regulation Filings; Trigen-Cholla LLC, et al.

July 28, 2000.

Take notice that the following filings have been made with the Commission:

1. Trigen-Cholla LLC

[Docket No. EG00-230-000]

Take notice that on July 25, 2000, Trigen-Cholla LLC, 25 Tenth Street, Golden, Colorado 80401-0088 (Applicant), filed with the Federal Energy Regulatory Commission an application for determination of exempt wholesale generator status pursuant to part 365 of the Commission's regulations.

The Applicant is a Delaware limited liability company. The Applicant is in the process of constructing and will own two electric generation plants, each consisting of a single approximately 5-megawatt gas turbine, located in unincorporated Baca County, Colorado (the Facilities). The Facilities are scheduled to begin commercial operation July 1, 2000. All of the electric output of the Facilities will be sold at wholesale, initially to Tri-State Generation and Transmission Association, Inc.

Comment date: August 18, 2000, in accordance with Standard Paragraph E at the end of this notice. The Commission will limit its consideration of comments to those that concern the adequacy or accuracy of the application.

2. Broad River Investors LLC

[Docket No. EG00-232-000]

Take notice that on July 27, 2000, Broad River Investors LLC (Applicant) with its principal office c/o SkyGen Energy LLC, Edens Corporate Center, 650 Dundee Road, Suite 350, Northbrook, Illinois 60062, filed with the Federal Energy Regulatory Commission (Commission) an application for determination of “exempt wholesale generator” status pursuant to Part 365 of the Commission's regulations.

Applicant states that it will be engaged in owning and operating Units 4 and 5 (the Facility) at the Broad River Energy Center consisting of two (2) natural gas fueled simple cycle combustion turbines each having a maximum electrical output of approximately 180 MW. The Facility will be constructed in Cherokee County, at Gaffney, South Carolina. The Applicant also states that it will sell electric energy exclusively at wholesale to meet peaking electricity needs in the region.

Comment date: August 18, 2000, in accordance with Standard Paragraph E at the end of this notice. The Commission will limit its consideration of comments to those that concern the adequacy or accuracy of the application.

3. East Central Area Reliability Council

[Docket No. ER00-2234-001]

Take notice that on July 25, 2000, the East Central Area Reliability Council (ECAR), on behalf of Allegheny Power, American Electric Power Co., Big Rivers Electric Corp., Cinergy Corp., Consumers Energy Co., The Dayton Power and Light Co., The Detroit Edison Co., Duquesne Light Co., East Kentucky Power Cooperative, Inc., Enron-SE Corp, FirstEnergy Corp., Hoosier Energy REC, Indianapolis Power and Light Co., LG&E Energy Corp., Northern Indiana Public Service Co., Ohio Valley Electric Corp., and Southern Indiana Gas and Electric Co., tendered for filing an amendment to the Inadvertent Settlement Tariff that was accepted by the Commission on May 31, 2000. 91 FERC ¶ 61,197. This amendment, and Index of Parties, adds Enron-Wheatland-Indianapolis (ENWI) and Enron-Wheatland-Cinergy (ENWC), new ECAR Control Areas, as Parties to the Inadvertent Settlement Tariff. ECAR also requests that the Commission waive its notice requirements to allow this filing to go into effect by July 26, 2000. The filing is available on the ECAR's web site (www.ecar.org).

Comment date: August 15, 2000, in accordance with Standard Paragraph E at the end of this notice.

4. California Independent System Operator Corporation

[Docket No. ER00-3254-000]

Take notice that on July 25, 2000, the California Independent System Operator Corporation, tendered for filing a Meter Service Agreement for ISO Metered Entities between the ISO and Utica Power Authority for acceptance by the Commission.

The ISO states that this filing has been served on Utica Power Authority and the California Public Utilities Commission.

The ISO is requesting waiver of the 60-day notice requirement to allow the Meter Service Agreement for ISO Metered Entities to be made effective July 17, 2000.

Comment date: August 15, 2000, in accordance with Standard Paragraph E at the end of this notice.

5. Hardee Power Partners Limited

[Docket No. ER00-3255-000]

Take notice that on July 25, 2000, Hardee Power Partners Limited (HPP), tendered for filing a service agreement with the City of Lakeland, Florida (Lakeland) under HPP's market-based sales tariff.

HPP requests that the service agreement be made effective on June 26, 2000.

Copies of the filing have been served on Lakeland and the Florida Public Service Commission.

Comment date: August 15, 2000, in accordance with Standard Paragraph E at the end of this notice.

6. Consumers Energy Company

[Docket No. ER00-3256-000]

Take notice that on July 25, 2000, Consumers Energy Company (Consumers), tendered for filing executed transmission service agreements with Conectiv Energy Source, Inc. (Customer) pursuant to the Joint Open Access Transmission Service Tariff filed on December 31, 1996 by Consumers and The Detroit Edison Company (Detroit Edison).

The agreements have effective dates of July 17, 2000.

Copies of the filed agreement were served upon the Michigan Public Service Commission, Detroit Edison, and the Customer.

Comment date: August 15, 2000, in accordance with Standard Paragraph E at the end of this notice.

7. South Carolina Electric & Gas Company

[Docket No. ER00-3257-000]

Take notice that on July 25, 2000, South Carolina Electric & Gas Company (SCE&G), tendered a service agreement establishing Allegheny Energy Supply Company, LLC as a non-firm point-to-point customer under the terms of SCE&G's Open Access Transmission Tariff.

SCE&G requests an effective date of one day subsequent to the filing of the service agreement. Accordingly, SCE&G requests waiver of the Commission's notice requirements.

Copies of this filing were served upon Allegheny Energy Supply Company, LLC and the South Carolina Public Service Commission.

Comment date: August 15, 2000, in accordance with Standard Paragraph E at the end of this notice.

8. California Independent System Operator Corporation

[Docket No. ER00-3258-000]

Take notice that on July 25, 2000, the California Independent System Operator Corporation, tendered for filing a Participating Generator Agreement between the ISO and Utica Power Authority for acceptance by the Commission.

The ISO states that this filing has been served on Utica Power Authority and the California Public Utilities Commission.

The ISO is requesting waiver of the 60-day notice requirement to allow the Participating Generator Agreement to be made effective July 17, 2000.

Comment date: August 15, 2000, in accordance with Standard Paragraph E at the end of this notice.

9. PJM Interconnection, L.L.C.

[Docket No. ER00-3259-000]

Take notice that on July 25, 2000, PJM Interconnection, L.L.C. (PJM), tendered for filing: (1) Nine signature pages of parties to the Reliability Assurance Agreement among Load Serving Entities in the PJM Control Area (RAA), four of which are replacement pages for entities which have changed their corporate name and five of which are additional parties to the RAA; (2) request for Commission approval of the withdrawal of three parties from the RAA; (3) an amended Schedule 17 of the RAA adding the new entities to the list of RAA signatories, deleting the entities that are withdrawing or have withdrawn from the RAA, and reflecting the corporate name changes; (4) Notice of Cancellation for Edison Source to terminate its membership in PJM, to cancel certain service agreements with PJM and to withdraw it as a signatory to the RAA; and (5) Notices of Cancellations for Cinergy Resources, Inc., and DuPont Power Marketing, Inc., to withdraw as signatories to the RAA.

PJM states that it served a copy of its filing on all parties to the RAA, including the parties for which a signature page is being tendered with this filing, the parties that are withdrawing from the RAA, the PJM members, and each of the state electric regulatory commissions within the PJM control area.

Comment date: August 15, 2000, in accordance with Standard Paragraph E at the end of this notice.

10. Trigen-Cholla LLC

[Docket No. ER00-3262-000]

Take notice that on July 25, 2000, Trigen-Cholla LLC, tendered for filing pursuant to Rules 205 and 207 an application for waivers and blanket approvals under various regulations of the Commission and for an order accepting its FERC Electric Rate Schedule No. 1 to be effective on or before August 1, 2000, subject to approval by the Commission, and accepting two power purchase agreements between it and Tri-State Generation and Transmission Association, Inc.

In transactions where Trigen-Cholla LLC will sell electric energy and/or capacity at wholesale, it proposes to make such sales on rates, terms and conditions to be mutually agreed with the purchasing party.

Comment date: August 15, 2000, in accordance with Standard Paragraph E at the end of this notice.

11. Wisconsin Electric Power Company

[Docket No. ER00-3263-000]

Take notice that on July 25, 2000, Wisconsin Electric Power Company (Wisconsin Electric), tendered for filing an electric service agreement under its Coordination Sales Tariff (FERC Electric Tariff, First Revised Volume No. 2).

Wisconsin Electric respectfully requests an effective date July 25, 2000.

Copies of the filing have been served on Wisconsin Public Service Corporation, the Michigan Public Service Commission, and the Public Service Commission of Wisconsin.

Comment date: August 15, 2000, in accordance with Standard Paragraph E at the end of this notice.

12. Allegheny Energy Service Corporation, on behalf of Monongahela Power Company, The Potomac Edison Company, and West Penn Power Company (Allegheny Power)

[Docket No. ER00-3264-000]

Take notice that on July 25, 2000, Allegheny Energy Service Corporation on behalf of Monongahela Power Company, The Potomac Edison Company and West Penn Power Company (Allegheny Power), tendered for filing Service Agreement Nos. 315 and 316 to add The Energy Authority, Inc., to Allegheny Power's Open Access Transmission Service Tariff which has been accepted for filing by the Federal Energy Regulatory Commission in Docket No. ER96-58-000.

The proposed effective date under the Service Agreements is July 24, 2000 or a date ordered by the Commission.

Copies of the filing have been provided to the Public Utilities Commission of Ohio, the Pennsylvania Public Utility Commission, the Maryland Public Service Commission, the Virginia State Corporation Commission, and the West Virginia Public Service Commission.

Comment date: August 15, 2000, in accordance with Standard Paragraph E at the end of this notice.

13. PPL Electric Utilities Corporation

[Docket No. ER00-3265-000]

Take notice that on July 25, 2000, PPL Electric Utilities Corporation (PPL), tendered for filing an Interconnection Agreement and Addendum to Interconnection Agreement between PPL and International Paper Corporation.

Comment date: August 15, 2000, in accordance with Standard Paragraph E at the end of this notice.

14. Pepco Energy Services, Inc.

[Docket No. ER00-3276-000]

Take notice that on July 21, 2000, Pepco Energy Services, Inc., tendered for filing a Notice of Succession of Ownership and Operation.

Comment date: August 11, 2000, in accordance with Standard Paragraph E at the end of this notice.

15. Hardee Power Partners Limited

[Docket No. ER00-3260-000]

Take notice that on July 25, 2000, Hardee Power Partners Limited (HPP), tendered for filing a service agreement with Florida Power Corporation (FPC) under HPP's market-based sales tariff.

Copies of the filing have been served on FPC and the Florida Public Service Commission.

Comment date: August 15, 2000, in accordance with Standard Paragraph E at the end of this notice.

16. Hardee Power Partners Limited

[Docket No. ER00-3261-000]

Take notice that on July 25, 2000, Hardee Power Partners Limited (HPP), tendered for filing a service agreement with The Energy Authority, Inc. (TEA) under HPP's market-based sales tariff.

HPP requests that the service agreement be made effective on June 26, 2000.

Copies of the filing have been served on TEA and the Florida Public Service Commission.

Comment date: August 15, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19743 Filed 8-3-00; 8:45 am]

BILLING CODE 6717-01-U